COMMITTEE FOR PURCHASE FROM PEOPLE WHO ARE BLIND OR SEVERELY DISABLED

Procurement List; Proposed Additions

AGENCY: Committee for Purchase from People Who Are Blind or Severely Disabled.

ACTION: Proposed additions to the Procurement List.

SUMMARY: The Committee is proposing to add to the Procurement List products and service to be furnished by nonprofit agencies employing persons who are blind or have other severe disabilities.

Comments Must be Received on or Before: 5/25/2009.

ADDRESSES: Committee for Purchase From People Who Are Blind or Severely Disabled, Jefferson Plaza 2, Suite 10800, 1421 Jefferson Davis Highway, Arlington, Virginia 22202-3259. For Further Information or to Submit Comments Contact: Barry S. Lineback, telephone: (703) 603-7740, fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions:

If the Committee approves the proposed additions, the entities of the Federal Government identified in this notice for each product or service will be required to procure the products and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and service to the Government.

2. If approved, the action will result in authorizing small entities to furnish the products and service to the Government.

3. There are no known regulatory alternatives which would accomplish the objectives of the Javits-Wagner-O'Day Act (41 U.S.C. 46-48c) in connection with the products and service proposed for addition to the Procurement List.

Comments on this certification are invited. Commenters should identify the statement(s) underlying the certification on which they are providing additional information.

End of Certification

The following products and service are proposed for addition to Procurement List for production by the nonprofit agencies listed:

Products

NSN: 6850-01-167-0678—Cleaner, Brake Parts

NPA: Lighthouse for the Blind, St. Louis, MO

Contracting Activity: Defense Logistics Agency, Defense Supply Center Columbus

COVERAGE: C-list for the total requirement of the Defense Supply Center Columbus, Columbus, OH.

NSN: 7510-00-NIB-0869—Tape, Package Sealing Pack w/Pistol Grip Dispenser

NSN: 7510-00-NIB-0870—Tape, Package Sealing Pack w/Handheld Dispenser

NSN: 7510-00-NIB-0871—Tape, Package Sealing Prepack Commercial Grade

NSN: 7510-00-NIB-0872—Tape, Packaging Sealing Prepack Economy Grade

NPA: Cincinnati Association for the Blind, Cincinnati, OH

Contracting Activity: Federal Acquisition Service, GSA/FSS OFC SUP CTR—Paper Products

COVERAGE: A-List for the total Government requirement as aggregated by the General Services Administration.

NSN: 7530-00-NIB-0880—Self-Stick Table Top Easel Pad

NPA: Assoc f/t Blind & Visually Impaired & Goodwill Ind of Greater Rochester, Rochester, NY

Contracting Activity: Federal Acquisition Service, GSA/FSS OFC SUP CTR—Paper Products

COVERAGE: A-List for the total Government requirement as aggregated by the General Services Administration.

NSN: 8105-00-NIB-1281—Bag, Trash, Insect Repellent

NSN: 8105-00-NIB-1282—Bag, Trash, Insect Repellent

NSN: 8105-00-NIB-1283—Bag, Trash, Insect Repellent

NSN: 8105-00-NIB-1284—Bag, Trash, Insect Repellent

NSN: 8105-00-NIB-1285—Bag, Trash, Insect Repellent

NSN: 8105-00-NIB-1286—Bag, Trash, Insect Repellent

NSN: 8105-00-NIB-1287—Bag, Trash, Insect Repellent

NSN: 8105-00-NIB-1288—Bag, Trash, Insect Repellent

NPA: Envision, Inc., Wichita, KS

Contracting Activity: Federal Acquisition Service, GSA/FSS OFC SUP CTR—Paper Products

COVERAGE: B-List for the broad Government requirement as aggregated by the General Services Administration.

Service

Service Type/Location: Custodial Services, Camp Bullis Gymnasium—Building 5031, 6929 Camp Bullis Rd, Camp Bullis, TX

NPA: Professional Contract Services, Inc., Austin, TX

Contracting Activity: DEPT OF THE ARMY, XR W6BB ACA SAM HOUSTON.

Barry S. Lineback,
Director, Business Operations.

[FR Doc. E9-9455 Filed 4-23-09; 8:45 am]

BILLING CODE 6353-01-P